DEPARTMENT OF ENERGY

Federal Energy Regulatory Commission

Combined Notice of Filings #1

Take notice that the Commission received the following exempt wholesale generator filings:

Docket Numbers: EG11-98-000.

Applicants: Shiloh III Wind Project, LLC.

Description: Notice of Self-Certification of Exempt Wholesale Generator Status of Shiloh III Wind Project, LLC.

Filed Date: 06/29/2011.

Accession Number: 20110629-5131.

Comment Date: 5 p.m. Eastern Time on Wednesday, July 20, 2011.

Take notice that the Commission received the following electric rate filings:

Docket Numbers: ER10-1476-001.

Applicants: Tampa Electric Company.

Description: Updated Market Power Analysis for Southeast Region of Tampa Electric Company.

Filed Date: 06/29/2011.

Accession Number: 20110629-5184.

Comment Date: 5 p.m. Eastern Time on Monday, August 29, 2011.

Docket Numbers: ER10-1586-001; ER10-1595-001; ER10-1598-001; ER10-1618-001; ER11-2610-001; ER10-1626-001; ER10-1630-001.

Applicants: Big Sandy Peaker Plant, LLC, Tenaska Power Services Co., Wolf Hills Energy, LLC, Lincoln Generating Facility, LLC, Rolling Hills Generating, LLC, Tenaska Virginia Partners, L.P., Crete Energy Venture, LLC.

Description: Updated Market Power Analysis and Notification of Change in Status of Big Sandy Peaker Plant, LLC, et al. under ER10-1586, et al.

Filed Date: 06/29/2011.

Accession Number: 20110629-5178.

Comment Date: 5 p.m. Eastern Time on Monday, August 29, 2011.

Docket Numbers: ER10-2238-002; ER10-2239-002; ER10-2237-001.

Applicants: Indigo Generation LLC, Larkspur Energy LLC, Wildflower Energy LP.

Description: Notification of Non-Material Change in Status of Indigo Generation LLC, et al.

Filed Date: 06/29/2011.

Accession Number: 20110629-5181.

Comment Date: 5 p.m. Eastern Time on Wednesday, July 20, 2011.

Docket Numbers: ER10-2253-003; ER10-3319-004.

Applicants: Astoria Energy LLC, Astoria Energy II LLC.

Description: Astoria Energy LLC and Astoria Energy II LLC Submit Triennial Order 697 Filing.

Filed Date: 06/29/2011.

Accession Number: 20110629-5063.

Comment Date: 5 p.m. Eastern Time on Monday, August 29, 2011.

Docket Numbers: ER10-2923-003.

Applicants: Sunbury Generation LP.

Description: Updated Market Power Filing and Request to be Classified as a Category 1 Seller.

Filed Date: 06/29/2011.

Accession Number: 20110629-5046.

Comment Date: 5 p.m. Eastern Time on Monday, August 29, 2011.

Docket Numbers: ER10-3124-002; ER10-3127-002; ER10-3129-002; ER10-3130-002; ER10-3132-002; ER10-3134-002; ER10-3137-002.

Applicants: Noble Altona Windpark, LLC, Noble Bellmont Windpark, LLC, Noble Bliss Windpark, LLC, Noble Chateaugay Windpark, LLC, Noble Clinton Windpark I, LLC, Noble Ellenburg Windpark, LLC, Noble Wethersfield Windpark, LLC.

Description: Triennial Market Power Analysis of Noble Altona Windpark, LLC, et al.

Filed Date: 06/29/2011.

Accession Number: 20110629-5176.

Comment Date: 5 p.m. Eastern Time on Monday, August 29, 2011.

Docket Numbers: ER10-3139-001; ER10-2964-001; ER11-2041-002; ER11-2042-002; ER10-2924-002.

Applicants: Kleen Energy Systems, LLC, Selkirk Cogen Partners, L.P., Innovative Energy Systems, LLC, Seneca Energy II, LLC, Black River Generation, LLC.

Description: Triennial Order 697 Submission (Joint)—Black River.

Filed Date: 06/29/2011.

Accession Number: 20110629-5174.

Comment Date: 5 p.m. Eastern Time on Monday, August 29, 2011.

Docket Numbers: ER10-3253-001; ER10-3237-001; ER10-3240-001; ER10-3230-001; ER10-3239-001.

Applicants: Wheelabrator Portsmouth Inc., Wheelabrator Westchester L.P.,Wheelabrator Bridgeport, L.P., Wheelabrator Frackville Energy Co., Inc., Wheelabrator North Andover Inc.

Description: Updated Market Power Analysis for the Northeast Region of Wheelabrator Bridgeport, L.P., et al. under ER10-3253, et al.

Filed Date: 06/29/2011.

Accession Number: 20110629-5094.

Comment Date: 5 p.m. Eastern Time on Monday, August 29, 2011.

Docket Numbers: ER11-3677-000; ER11-3734-000; ER11-3720-000; ER11-3718-000; ER11-3717-000; ER11-3716-000; ER11-3715-000; ER11-3714-000; ER10-2631-001; ER10-2632-001.

Applicants: CP Energy Marketing (US) Inc.; CPI Energy Services (US) LLC, CPI USA North Carolina LLC, CPIDC, Inc., Frederickson Power, L.P., Manchief Power Company, LLC, Morris Cogeneration, LLC, Bridgeport Energy LLC, Rumford Power Inc., Tiverton Power Inc.

Description: Capital Power Companies' Amendment to Notice of Change in Status Regarding Market-Based Rate Authority.

Filed Date: 06/29/2011.

Accession Number: 20110629-5173.

Comment Date: 5 p.m. Eastern Time on Wednesday, July 20, 2011.

Docket Numbers: ER11-3914-000.

Applicants: Pacific Gas and Electric Company.

Description: Pacific Gas and Electric Company submits tariff filing per 35.13(a)(2)(iii: Kirkwood Meadows Public Utility District Engineering Agreement, to be effective 6/30/2011.

Filed Date: 06/29/2011.

Accession Number: 20110629-5000.

Comment Date: 5 p.m. Eastern Time on Wednesday, July 20, 2011.

Docket Numbers: ER11-3915-000.

Applicants: New York Independent System Operator, Inc., National Grid

Description: Notice of Termination of Large Generator Interconnection Service Agreement of New York Independent System Operator, Inc., et al.

Filed Date: 06/29/2011.

Accession Number: 20110629-5029.

Comment Date: 5 p.m. Eastern Time on Wednesday, July 20, 2011.

Docket Numbers: ER11-3916-000.

Applicants: ISO New England Inc., Fitchburg Gas and Electric Light Company, New England Power Pool Participants Committee, The United Illuminating Company, Central Maine Power Company.

Description: ISO New England Inc. submits tariff filing per 35.13(a)(2)(iii: Jt. Filing of Clean-up Revisions to the ISO NE Trans., Mkts., and Srv. Tariff to be effective 7/1/2011.

Filed Date: 06/29/2011.

Accession Number: 20110629-5055.

Comment Date: 5 p.m. Eastern Time on Wednesday, July 20, 2011.

Docket Numbers: ER11-3917-000.

Applicants: Mojave Solar LLC.

Description: Mojave Solar LLC submits tariff filing per 35.12: MBR Application to be effective 7/1/2011.

Filed Date: 06/29/2011.

Accession Number: 20110629-5065.

Comment Date: 5 p.m. Eastern Time on Wednesday, July 20, 2011.

Docket Numbers: ER11-3918-000.

Applicants: Black Hills/Colorado Electric Utility Co.

Description: Black Hills/Colorado Electric Utility Company, LP submits tariff filing per 35.1: Black Hills/Colorado Electric Utility Company, LP, WestConnect Participation to be effective 7/1/2011.

Filed Date: 06/29/2011.

Accession Number: 20110629-5067.

Comment Date: 5 p.m. Eastern Time on Wednesday, July 20, 2011.

Docket Numbers: ER11-3919-000.

Applicants: PJM Interconnection, LLC.

Description: PJM Interconnection, LLC submits tariff filing per 35.13(a)(2)(iii: Original Service Agreement Nos. 2807 and 2808 to be effective 6/1/2011.

Filed Date: 06/29/2011.

Accession Number: 20110629-5107.

Comment Date: 5 p.m. Eastern Time on Wednesday, July 20, 2011.

Docket Numbers: ER11-3920-000.

Applicants: Oasis Power Partners, LLC.

Description: Oasis Power Partners, LLC submits tariff filing per 35: Seller Category Compliance Filing to be effective 6/30/2011.

Filed Date: 06/29/2011.

Accession Number: 20110629-5139.

Comment Date: 5 p.m. Eastern Time on Wednesday, July 20, 2011.

Docket Numbers: ER11-3921-000.

Applicants: Shiloh Wind Project 2, LLC.

Description: Shiloh Wind Project 2, LLC submits tariff filing per 35: Shiloh Seller Category Compliance Filing to be effective 6/30/2011.

Filed Date: 06/29/2011.

Accession Number: 20110629-5146.

Comment Date: 5 p.m. Eastern Time on Wednesday, July 20, 2011.

Docket Numbers: ER11-3922-000.

Applicants: Public Service Company of Colorado.

Description: Public Service Company of Colorado submits tariff filing per 35.13(a)(2)(iii: 2011_6_29_306-PSCo_Holy Cross Const Agrmt to be effective 6/29/2011.

Filed Date: 06/29/2011.

Accession Number: 20110629-5147.

Comment Date: 5 p.m. Eastern Time on Wednesday, July 20, 2011.

Docket Numbers: ER11-3923-000.

Applicants: CP Power Sales Nineteen, LLC.

Description: CP Power Sales Nineteen, LLC submits tariff filing per 35.37: CP Power Sales Nineteen, LLC Triennial MBR Update for the NR Region to be effective 6/30/2011.

Filed Date: 06/29/2011.

Accession Number: 20110629-5148.

Comment Date: 5 p.m. Eastern Time on Monday, August 29, 2011.

Docket Numbers: ER11-3924-000.

Applicants: Sempra Energy Trading LLC.

Description: Sempra Energy Trading LLC submits tariff filing per 35.37: Sempra Energy Trading LLC Second Revised MBR to be effective 6/30/2011.

Filed Date: 06/29/2011.

Accession Number: 20110629-5149.

Comment Date: 5 p.m. Eastern Time on Wednesday, July 20, 2011.

Docket Numbers: ER11-3925-000.

Applicants: EME Homer City Generation, L.P.

Description: EME Homer City Generation, L.P. submits tariff filing per 35.37: EME Homer City Generation, L.P. Triennial MBR Update for the NE Region to be effective 6/30/2011.

Filed Date: 06/29/2011.

Accession Number: 20110629-5150.

Comment Date: 5 p.m. Eastern Time on Monday, August 29, 2011.

Docket Numbers: ER11-3926-000.

Applicants: Arizona Public Service Company.

Description: Arizona Public Service Company submits tariff filing per 35.13(a)(2)(i): Rate Schedule No. 182 update to O&M adder to be effective 9/1/2011.

Filed Date: 06/29/2011.

Accession Number: 20110629-5151.

Comment Date: 5 p.m. Eastern Time on Wednesday, July 20, 2011.

Docket Numbers: ER11-3927-000.

Applicants: Chanarambie Power Partners, LLC.

Description: Chanarambie Power Partners, LLC submits tariff filing per 35: Chanarambie Seller Category Compliance Filing to be effective 6/30/2011.

Filed Date: 06/29/2011.

Accession Number: 20110629-5152.

Comment Date: 5 p.m. Eastern Time on Wednesday, July 20, 2011.

Docket Numbers: ER11-3928-000.

Applicants: Midwest Generation LLC.

Description: Midwest Generation LLC submits tariff filing per 35.37: Midwest Generation, LLC Triennial Market-Based Rate Update for the NE Region to be effective 6/30/2011.

Filed Date: 06/29/2011.

Accession Number: 20110629-5153.

Comment Date: 5 p.m. Eastern Time on Monday, August 29, 2011.

Docket Numbers: ER11-3929-000.

Applicants: Lookout WindPower LLC.

Description: Lookout WindPower LLC submits tariff filing per 35.37: Lookout WindPower LLC's Triennial Market-Based Rate Update for the NE Region to be effective 6/30/2011.

Filed Date: 06/29/2011.

Accession Number: 20110629-5154.

Comment Date: 5 p.m. Eastern Time on Monday, August 29, 2011.

Docket Numbers: ER11-3930-000.

Applicants: Big Sky Wind, LLC.

Description: Big Sky Wind, LLC submits tariff filing per 35.37: Big Sky Wind, LLC Triennial Market-Based Rate Update for the NE Region to be effective 6/30/2011.

Filed Date: 06/29/2011.

Accession Number: 20110629-5155.

Comment Date: 5 p.m. Eastern Time on Monday, August 29, 2011.

Docket Numbers: ER11-3931-000.

Applicants: Forward WindPower LLC.

Description: Forward WindPower LLC submits tariff filing per 35.37: Forward Wind Power, LLC Triennial MBR Update for the NE Region to be effective 6/30/2011.

Filed Date: 06/29/2011.

Accession Number: 20110629-5156.

Comment Date: 5 p.m. Eastern Time on Monday, August 29, 2011.

Docket Numbers: ER11-3932-000.

Applicants: Edison Mission Solutions, LLC.

Description: Edison Mission Solutions, LLC submits tariff filing per 35.37: Edison Mission Solutions, LLC Triennial MBR Update for the NE Region to be effective 6/30/2011.

Filed Date: 06/29/2011.

Accession Number: 20110629-5157.

Comment Date: 5 p.m. Eastern Time on Monday, August 29, 2011.

Docket Numbers: ER11-3933-000.

Applicants: Fenton Power Partners I, LLC.

Description: Fenton Power Partners I, LLC submits tariff filing per 35: Fenton Seller Category Compliance Filing to be effective 6/30/2011.

Filed Date: 06/29/2011.

Accession Number: 20110629-5158.

Comment Date: 5 p.m. Eastern Time on Wednesday, July 20, 2011.

Docket Numbers: ER11-3934-000.

Applicants: Edison Mission Marketing & Trading, Inc.

Description: Edison Mission Marketing & Trading, Inc. submits tariff filing per 35.37: Edison Mission Marketing and Trading, Inc. Triennial MBR Update NE Region to be effective 6/30/2011.

Filed Date: 06/29/2011.

Accession Number: 20110629-5159.

Comment Date: 5 p.m. Eastern Time on Monday, August 29, 2011.

Docket Numbers: ER11-3935-000.

Applicants: CL Power Sales Eight, LLC.

Description: CL Power Sales Eight, LLC submits tariff filing per 35.37: CL Power Sales Eight, LLC Triennial MBR Update for the NE Region to be effective 6/30/2011.

Filed Date: 06/29/2011.

Accession Number: 20110629-5160.

Comment Date: 5 p.m. Eastern Time on Monday, August 29, 2011.

Docket Numbers: ER11-3936-000.

Applicants: CP Power Sales Twenty, LLC.

Description: CP Power Sales Twenty, LLC submits tariff filing per 35.37: CP Power Sales Twenty, LLC Triennial MBR Update for the NE Region to be effective 6/30/2011.

Filed Date: 06/29/2011.

Accession Number: 20110629-5161.

Comment Date: 5 p.m. Eastern Time on Monday, August 29, 2011.

Docket Numbers: ER11-3937-000.

Applicants: CP Power Sales Seventeen, LLC.

Description: CP Power Sales Seventeen, LLC submits tariff filing per 35.37: CP Power Sales Seventeen, LLC Triennial MBR Update for the NE Region to be effective 6/30/2011.

Filed Date: 06/29/2011.

Accession Number: 20110629-5162.

Comment Date: 5 p.m. Eastern Time on Monday, August 29, 2011.

Docket Numbers: ER11-3938-000.

Applicants: Hoosier Wind Project, LLC.

Description: Hoosier Wind Project, LLC submits tariff filing per 35: Hoosier Seller Category Compliance Filing to be effective 6/30/2011.

Filed Date: 06/29/2011.

Accession Number: 20110629-5163.

Comment Date: 5 p.m. Eastern Time on Wednesday, July 20, 2011.

Docket Numbers: ER11-3944-000.

Applicants: Pacific Gas and Electric Company.

Description: Request for Tariff Waiver of Pacific Gas and Electric Company in ER11-3944.

Filed Date: 06/29/2011.

Accession Number: 20110629-5182.

Comment Date: 5 p.m. Eastern Time on Wednesday, July 20, 2011.

Take notice that the Commission received the following electric reliability filings:

Docket Numbers: RD11-8-000.

Applicants: North American Electric Reliability Corporation.

Description: Petition of the North American Electric Reliability Corporation for Approval of Proposed NPCC Regional Reliability Standard PRC-002-NPCC-01—Disturbance Monitoring.

Filed Date: 05/31/2011.

Accession Number: 20110531-5064.

Comment Date: 5 p.m. Eastern Time on Monday, August 1, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: June 30, 2011.
Nathaniel J. Davis, Sr.,
Deputy Secretary.

[FR Doc. 2011-17134 Filed 7-7-11; 8:45 am]

BILLING CODE 6717-01-P